DEPARTMENT OF TRANSPORTATION

Federal Motor Carrier Safety Administration

49 CFR Part 384

[Docket No. FMCSA-2025-0622]

RIN 2126-AC98

Restoring Integrity to the Issuance of Non-Domiciled Commercial Drivers Licenses (CDL); Correction

AGENCY: Federal Motor Carrier Safety Administration (FMCSA), Department of Transportation (DOT).

ACTION: Correcting amendments.

SUMMARY: In an interim final rule (IFR) published in the Federal Register on September 29, 2025, FMCSA amended the Federal regulations for State Driver's Licensing Agencies (SDLAs) issuing commercial driving credentials to foreign-domiciled individuals. The IFR contained an error in the amendatory instructions. The Agency corrects this error.

DATES: This correction is effective October 2, 2025. Comments on the IFR must still be received on or before November 28, 2025.

FOR FURTHER INFORMATION CONTACT: Philip Thomas, Deputy Associate Administrator, Office of Safety, FMCSA, 1200 New Jersey Avenue SE, Washington, DC 20590-0001; (202) 366-9554; Philip.Thomas@dot.gov. If you have questions on viewing or submitting material to the docket, call Dockets Operations at (202) 366-9826.

SUPPLEMENTARY INFORMATION: On September 29, 2025, FMCSA published an IFR (90 FR 46509) that amended the Federal regulations for SDLAs issuing commercial driving credentials to foreign-domiciled individuals. Through the IFR, FMCSA restored the integrity of the commercial driver's license (CDL) issuance processes by significantly limiting the authority for SDLAs to issue and renew non-domiciled commercial learner's permits and CDLs to individuals domiciled in a foreign jurisdiction. This change strengthened the security of the CDL issuance process and enhanced the safety of commercial motor vehicle operations. Through amendatory instruction no. 6 in the IFR, the Agency sought to revise § 384.212, but inadvertently wrote § 383.212 in the instruction. The Agency corrects this error by providing a new instruction to add new paragraphs (a)(1) and (2) to § 384.212. The revisions to § 384.212 are the same revisions described in the final rule.

List of Subjects in 49 CFR Part 384

Administrative practice and procedure, Alcohol abuse, Drug abuse, Highway safety, Motor carriers.

In consideration of the foregoing, FMCSA corrects 49 CFR part 384 by making the following correcting amendments:

PART 384—STATE COMPLIANCE WITH COMMERCIAL DRIVER'S LICENSE PROGRAM

1. The authority citation for part 384 continues to read as follows:

Authority: 49 U.S.C. 31136, 31301, et seq., and 31502; secs. 103 and 215 of Pub. L. 106-159, 113 Stat. 1748, 1753, 1767; sec. 32934 of Pub. L. 112-141, 126 Stat. 405, 830; sec. 5524 of Pub. L. 114-94, 129 Stat. 1312, 1560; and 49 CFR 1.87.

2. Amend § 384.212 by adding paragraph (a)(1) and reserved paragraph (a)(2) to read as follows:

§ 384.212 Domicile requirement.

(a) * * *

(1) For applicants domiciled in a foreign jurisdiction, the State must:

(i) Comply with the document verification requirements set forth in § 383.73(m)(2) before issuing (which includes amending, correcting, reprinting, or otherwise duplicating a previously issued CLP or CDL), transferring, renewing, or upgrading a non-domiciled CLP or CDL;

(ii) Retain copies of all documents involved in the licensing process, including documents provided by the applicant to prove lawful immigration status, for a period of no less than 2 years from the date of issuing (which includes amending, correcting, reprinting, or otherwise duplicating a previously issued CLP or CDL), transferring, renewing, or upgrading a non-domiciled CLP or CDL; and

(iii) Provide copies of all documents involved in the licensing process to FMCSA within 48 hours after request.

(2) [Reserved]

* * * * *

Issued under authority delegated in 49 CFR 1.87.
Larry W. Minor,
Associate Administrator for Policy.

[FR Doc. 2025-19230 Filed 10-1-25; 8:45 am]

BILLING CODE 4910-EX-P